DEPARTMENT OF THE INTERIOR

Fish and Wildlife Service

[FWS-R7-R-2008-N0094; 70133-1265-0000-S3]

Togiak National Wildlife Refuge, Dillingham, AK

AGENCY: Fish and Wildlife Service, Interior.

ACTION: Notice of Availability of the Revised Comprehensive Conservation Plan and Finding of No Significant Impact for the Environmental Assessment.

SUMMARY: We, the U.S. Fish and Wildlife Service (Service) announce the availability of our Revised Comprehensive Conservation Plan (CCP) and Finding of No Significant Impact (FONSI) for the Environmental Assessment (EA) for the Togiak National Wildlife Refuge (Togiak Refuge). In this revised CCP, we describe how we will manage this refuge for the next 15 years.

ADDRESSES: You may view or obtain copies of the revised CCP and FONSI by any of the following methods. You may request a paper copy, a summary, or a CD-ROM containing both.

Agency Web Site: Download a copy of the documents at http://alaska.fws.gov/nwr/planning/togpol.htm.

E-mail: fw7_togiak_planning@fws.gov.

Mail: Maggi Arend, Planning Team Leader, U.S. Fish and Wildlife Service, 1011 East Tudor Road, MS 231, Anchorage, AK 99503-6199.

In-Person Viewing or Pickup: Call (907) 786-3393 to make an appointment during regular business hours at the USFWS Regional Office, 1011 E. Tudor Road, Anchorage, AK 99503 or call (907) 883-5312 to make an appointment during regular business hours at Togiak Refuge, 6 Main Street, Dillingham, AK 99576.

FOR FURTHER INFORMATION CONTACT: Maggi Arend, Planning Team Leader, (907) 786-3393 or fw7_togiak_planning@fws.gov.

SUPPLEMENTARY INFORMATION:

Introduction

With this notice, we finalize the CCP process for the Togiak Refuge. We started this process with a Notice of Intent in the Federal Register (64 FR 25899, May. 13, 1999) and a revised Notice of Intent in the Federal Register (71 FR 42116, July 25, 2006). We announced the availability of the draft CCP and EA, and requested comments in a notice of availability in the Federal Register (72 FR 54921, Sept. 27, 2007).

Togiak Refuge is located 400 miles west of Anchorage, Alaska. The Refuge is bordered to the south by Bristol Bay, to the west by Kuskokwim Bay, to the north by Yukon Delta National Wildlife Refuge and to the east by Wood-Tikchik State Park. Of the 4.7 million acres within the boundary, 4.2 million acres is under management by the Service, including the 2.3 million-acre Togiak Wilderness. Three major watersheds, the Kanketok, Goodnews, and Togiak rivers, provide abundant fish habitat within the Refuge, where more than 1 million salmon come to spawn each year. The Refuge also includes coastal areas varying from sandy beaches to steep rocky cliffs, including rare protected haul outs for Pacific Walrus.

We announce our decision and the availability of the FONSI for the revised CCP for the Togiak Refuge in accordance with National Environmental Policy Act (NEPA) (40 CFR 1506.6(b)) requirements. We completed a thorough analysis of impacts on the human environment in the EA that accompanied the draft revised CCP.

The CCP will guide us in managing and administering the Togiak Refuge for the next 15 years. The revised CCP is Alternative 1, the preferred alternative in the draft CCP, developed in response to public scoping comments.

Background

The Alaska National Interest Lands Conservation Act of 1980 (94 Stat. 2371; ANILCA) and the National Wildlife Refuge System Improvement Act of 1997 (16 U.S.C. 668dd-668ee) require us to develop a CCP for each Alaska refuge. The purpose for developing a CCP is to provide refuge managers with a 15-year plan for achieving refuge purposes and contributing toward the mission of the National Wildlife Refuge System, consistent with sound principles of fish and wildlife management, conservation, legal mandates, and our policies. We will review and update the CCP at least every 15 years in accordance with national policy and ANILCA.

ANILCA requires us to designate areas according to their respective resources and values and to specify programs and uses within the areas designated. To meet this requirement, the Alaska Region established management categories for refuges including Wilderness, Minimal, Moderate, Intensive, and Wild River management. In the past, additional categories, including Cooperative Management were also included but are no longer used. For each management category we identified appropriate activities, public uses, commercial uses, and facilities. This revision reclassifies Cooperative Management lands as Minimal Management. Only Minimal and Wilderness management categories are applied to Togiak Refuge.

Draft CCP Alternatives

The Draft Plan identified one significant planning issue, the effect of management on activities and uses within the Togiak Refuge. Two alternatives were considered in the environmental assessment. Alternative 1, the Proposed Action, includes implementation of updated management guidelines, converting lands in Cooperative Management into Minimal Management, and adds Refuge goals and objectives. Alternative 2, Current Management, would continue to implement current management as outlined in the 1987 Comprehensive Plan, including the use of the Cooperative Management category. The Refuge would not have a clearly stated vision statement, goals and objectives to guide management.

Comments on the Draft CCP

Comments on the draft CCP/EA for Togiak Refuge were solicited by the Service from October 3, 2007, through January 18, 2008. During the public review and comment period the Service held public meetings in Anchorage, Dillingham, Quinhagak, Goodnews Bay, and Togiak, Alaska. The planning team reviewed, analyzed, and summarized all comments received at the public meetings and in writing.

Selected Alternative—Alternative 1

Two alternatives were considered in the environmental assessment. Alternative 1, the Proposed Action, encompasses policy development, changes, and clarifications made in the years since the implementation of the original Comprehensive Plan in 1987. It also converts lands in Cooperative Management into Minimal Management, and adds a Refuge vision statement, goals and objectives.

Dated: September 18, 2009.
Gary Edwards,
Acting Regional Director, U.S. Fish and Wildlife Service, Anchorage, Alaska.

[FR Doc. E9-23029 Filed 9-23-09; 8:45 am]

BILLING CODE 4310-55-P